DEPARTMENT OF HEALTH AND HUMAN SERVICES

Centers for Disease Control and Prevention

[30Day-13-12JM]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call (404) 639-7570 or send an email to omb@cdc.gov. Send written comments to CDC Desk Officer, Office of Management and Budget, Washington, DC 20503 or by fax to (202) 395-5806. Written comments should be received within 30 days of this notice.

Proposed Project

Improving the Health and Safety of the Diverse Workforce—New—National Institute for Occupational Safety and Health (NIOSH), Centers for Disease Control and Prevention (CDC).

Background and Brief Description

Stress is one of the major causes of diminished health, safety, and productivity on the job (Jordan et al, 2003; Brunner, 2000). Increasing medical care utilization costs, job dissatisfaction, poor job performance, and employee turnover are some of the documented health, economic, psychological, and behavioral consequences of stress (Levi, 1996).

Because of their general concentration in high-hazard and/or lower-status occupations, some racial and ethnic minority workers may be over-exposed to workplace factors (e.g., high workload and low job control) which have traditionally linked to a variety of stress-related health and safety problems. In addition, racial and ethnic minorities appear to be significantly more likely than non-minorities to encounter discrimination and other race-related stressors in the workplace (e.g., Krieger et al, 2006; Roberts et al, 2004).

Given a potentially greater stress burden, racial and ethnic minority workers may be at heightened risk for the development of health and safety problems associated with stress. On the other hand, occupational stress research experts suggest that certain workplace and other factors (e.g., co-worker and supervisory support, anti-discrimination policies and practices, etc.) may help reduce stress among employees, including racial and ethnic minorities.

The goals of this project are to evaluate: (1) The degree of exposure of minority and non-minority workers to various workplace and job stressors (2) the impact of these stressors on health and safety outcomes and (3) the organizational (e.g., organizational characteristics, policies and practices) and other factors that protect minority and other workers from stress and associated problems in health and safety. The data collection will ultimately help CDC/NIOSH focus intervention and prevention efforts that are designed to benefit the health and safety of the diverse U.S. workforce.

The study entails collecting standardized information from working adults via a telephone interview. Respondents will be asked about: (1) Their exposure to workplace and job stressors, including those related to race and ethnicity (2) their health and safety status and (3) organizational characteristics, policies and practices that may or may not buffer them from the adverse effects of work-related stressors. Respondents will be a random sample of 2,300 Blacks/African Americans, White/European Americans, Hispanic/Latino Americans, American Indian/Alaska Natives, and Asian Americans. All telephone interview respondents will be between the ages of 18 and 65, English-speaking, either currently employed or unemployed for no more than 3 years, and living within the Chicago Metropolitan area. There are no costs to respondents other than their time. The total estimated annual burden hours are 1,150.

Estimated Annualized Burden Hours
Type of respondents | Form name | Number of respondents | Number of responses per respondent | Average burden per response (in hrs)
Individual | Telephone Interviews | 2,300 | 1 | 30/60

Dated: October 23, 2012.
Ron A. Otten,
Director, Office of Scientific Integrity (OSI), Office of the Associate Director for Science (OADS), Office of the Director, Centers for Disease Control and Prevention.

[FR Doc. 2012-26496 Filed 10-26-12; 8:45 am]

BILLING CODE 4163-18-P